DEPARTMENT OF COMMERCE

International Trade Administration

Notice of Amendment for Applicants for Appointment to the United States-Brazil CEO Forum

AGENCY: International Trade Administration, Department of Commerce.

ACTION: Amendment to prior notice.

SUMMARY: The Governments of the United States and Brazil have agreed to establish a U.S.-Brazil CEO Forum. This notice announces an amendment to the eligibility requirements for applications for American representatives to join the U.S. Section of the Forum.

DATES: Applications should be received no later than April 20, 2007.

ADDRESSES: Please send requests for consideration to Lorrie Lopes, International Trade Specialist, Office of Latin America and Caribbean, U.S. Department of Commerce, either by fax at (202) 482-4726 or by mail to U.S. Department of Commerce, 14th and Constitution Avenue, NW., Room 3203, Washington, DC 20230.

FOR FURTHER INFORMATION CONTACT: Lorrie Lopes, Office of Latin America and Caribbean, U.S. Department of Commerce, telephone: (202) 482-4157. Additional information, including the Terms of Reference, can be found at http://trade.gov/press/press_releases/2007/brazilceo_01.asp

SUPPLEMENTARY INFORMATION: On March 23, 2007, the International Trade Administration of the U.S. Department of Commerce published a Federal Register notice soliciting applications from U.S. persons interested in serving as members of the U.S. Section of the U.S.-Brazil CEO Forum. See 72 FR 13747. The International Trade Administration of the U.S. Department of Commerce is amending the previous notice due to the level of interest in the Forum. The amendment to the eligibility criteria changes “each candidate also must be a U.S. citizen residing in the United States and able to travel to Brazil or locations in the United States to attend official Forum meetings as well as independent U.S. Section and Committee meetings,” to “each candidate also must be a U.S. citizen or otherwise legally authorized to work in the United States and able to travel to Brazil and locations in the United States to attend official Forum meetings as well as independent U.S. Section and Committee meetings.” Applicants must meet all other requirements put forward in the previous notice. See 72 FR 13747.

Dated: March 29, 2007.
Anne Driscoll,
Acting Director for the Office of Latin America and the Caribbean.

[FR Doc. E7-6160 Filed 4-2-07; 8:45 am]

BILLING CODE 3510-DA-P